DEPARTMENT OF LABOR

Employment and Training Administration

[TA-W-71,810]

Novell, Inc., Including On-Site Leased Workers From Affiliated Computer Services, Inc., (ACS), Provo, UT; Amended Certification Regarding Eligibility To Apply for Worker Adjustment Assistance

In accordance with Section 223 of the Trade Act of 1974, as amended (“Act”), 19 U.S.C. 2273, the Department of Labor issued a Certification of Eligibility to Apply for Worker Adjustment Assistance on October 6, 2009, applicable to workers of Novell, Inc., Provo, Utah. The notice was published in the Federal Register on December 11, 2009 (74 FR 6599).

At the request of the State Agency, the Department reviewed the certification for workers of the subject firm. The workers are engaged in activities related to research, design and technical support for the production of computer software.

The company reports that workers leased from Affiliated Computer Services, Inc., (ACS) were employed on-site at the Provo, Utah location of Novell, Inc. The Department has determined that these workers were sufficiently under the control of the subject firm to be considered leased workers.

Based on these findings, the Department is amending this certification to include workers leased from Affiliated Computer Services, Inc., (ACS) working on-site at the Provo, Utah location of Novell, Inc.

The amended notice applicable to TA-W-71,810 issued as follows:

All workers of Novell, Inc., including on-site leased workers from Affiliated Computer Services, Inc., (ACS), Provo, Utah, who became totally or partially separated from employment on or after July 24, 2008, through October 6, 2011, and all workers in the group threatened with total or partial separation from employment on the date of certification through two years from the date of certification, are eligible to apply for adjustment assistance under Chapter 2 of Title II of the Trade Act of 1974, as amended.

Signed at Washington, DC this 8th day of July 2010.
Elliott S. Kushner,
Certifying Officer, Division of Trade Adjustment Assistance.

[FR Doc. 2010-17387 Filed 7-15-10; 8:45 am]

BILLING CODE 4510-FN-P